FEDERAL ELECTION COMMISSION

[Notice 2009-5]

Filing Dates for the Illinois Special Election in the 5th Congressional District

AGENCY: Federal Election Commission.

ACTION: Corrected notice of filing dates for special election.

SUMMARY: Illinois has scheduled elections on March 3, 2009, and April 7, 2009, to fill the U.S. House of Representatives seat in the Fifth Congressional District vacated by Representative Rahm Emanuel.

Political committees required to file reports in connection with the Special Primary Election on March 3, 2009, shall file a 12-day Pre-Primary Report. Political committees required to file reports in connection with both the Special Primary and Special General Election on April 7, 2009, shall file a 12-day Pre-Primary Report, a 12-day Pre-General Report, and a 30-day Post-General Report.

This notice provides additional information regarding the filing requirements for the Illinois 5th District Special Elections that was inadvertently omitted from the notice published in the January 21, 2009, Federal Register.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Illinois Special Primary and Special General Elections shall file a 12-day Pre-Primary Report on February 19, 2009; a 12-day Pre-General Report on March 26, 2009; and a 30-day Post-General Report on May 7, 2009. (See chart below for the closing date for each report.)

All principal campaign committees of candidates participating only in the Special Primary Election shall file a 12-day Pre-Primary Report on February 19, 2009. (See chart below for the closing date for each report.)

Note that these reports are in addition to the campaign committee's quarterly filings in April and July.

Unauthorized Committees (PACs and Party Committees)

Political committees filing on a semiannual basis in 2009 are subject to special election reporting if they make previously undisclosed contributions or expenditures in connection with the Illinois Special Primary or Special General Elections by the close of books for the applicable report(s). (See chart below for the closing date for each report.)

Political committees filing monthly that support candidates in the Illinois Special Primary or Special General Elections should continue to file according to the monthly reporting schedule.

Additional disclosure information in connection with the Illinois Special Election may be found on the FEC Web site at http://www.fec.gov/info/report_dates.shtml.

Calendar of Reporting Dates for Illinois Special Election
Report | Close of books ¹ | Reg./cert. & overnight mailing deadline | Filing deadline
Quarterly Filing Political Committees Involved in Only the Special Primary (03/03/09) Must File:
Pre-Primary | 02/11/09 | ² 02/16/09 | 02/19/09
April Quarterly | 03/31/09 | 04/15/09 | 04/15/09
Semiannual Filing Political Committees Involved in Only the Special Primary (03/03/09) Must File:
Pre-Primary | 02/11/09 | ² 02/16/09 | 02/19/09
Mid-Year | 06/30/09 | 07/31/09 | 07/31/09
Quarterly Filing Political Committees Involved in Both the Special Primary (03/03/09) and Special General (04/07/09) Must File:
Pre-Primary | 02/11/09 | ² 02/16/09 | 02/19/09
Pre-General | 03/18/09 | 03/23/09 | 03/26/09
April Quarterly | 03/31/09 | 04/15/09 | 04/15/09
Post-General | 04/27/09 | 05/07/09 | 05/07/09
July Quarterly | 06/30/09 | 07/15/09 | 07/15/09
Semiannual Filing Political Committees Involved in Both the Special Primary (03/03/09) and Special General (04/07/09) Must File:
Pre-Primary | 02/11/09 | ² 02/16/09 | 02/19/09
Pre-General | 03/18/09 | 03/23/09 | 03/26/09
Post-General | 04/27/09 | 05/07/09 | 05/07/09
Mid-Year | 06/30/09 | 07/31/09 | 07/31/09
Quarterly Filing Political Committees Involved in Only the Special General (04/07/09) Must File:
Pre-General | 03/18/09 | 03/23/09 | 03/26/09
April Quarterly | 03/31/09 | 04/15/09 | 04/15/09
Post-General | 04/27/09 | 05/07/09 | 05/07/09
July Quarterly | 06/30/09 | 07/15/09 | 07/15/09
Semiannual Filing Political Committees Involved in Only the Special General (04/07/09) Must File:
Pre-General | 03/18/09 | 03/23/09 | 03/26/09
Post-General | 04/27/09 | 05/07/09 | 05/07/09
Mid-Year | 06/30/09 | 07/31/09 | 07/31/09
¹ The reporting period always begins the day after the closing date of the last report filed. If the committee is new and has not previously filed a report, the first report must cover all activity that occurred before the committee registered up through the close of books for the first report due.
² Notice that the registered/certified & overnight mailing deadline falls on a weekend or federal holiday. The report should be postmarked on or before that date.

Dated: February 12, 2009.
On behalf of the Commission.
Steven T. Walther,
Chairman, Federal Election Commission.

[FR Doc. E9-3476 Filed 2-18-09; 8:45 am]

BILLING CODE 6715-01-P